SOCIAL SECURITY ADMINISTRATION

Notice Announcing Addresses for Service of Process

AGENCY: Social Security Administration (SSA).

ACTION: Notice.

SUMMARY: As set forth in a Federal Register rule in the Rules and Regulations section, we have amended our rules regarding service of legal process in lawsuits involving judicial review of Agency final decisions on individual claims for benefits under titles II, VIII, and/or XVI of the Social Security Act. Under the new rules, summonses and complaints in these types of cases should be mailed directly to the office in SSA's Office of the General Counsel (OGC) that is responsible for the processing and handling of litigation in the particular jurisdiction in which the complaint has been filed. The names and current addresses of those offices, and the jurisdictions for which they are currently responsible, are detailed in this Notice.

FOR FURTHER INFORMATION CONTACT: Lawrence A. Levey, Office of the General Counsel, Office of Program Law, Social Security Administration, 6401 Security Boulevard, Baltimore, MD 21235-6401, (410) 965-3460.

SUPPLEMENTARY INFORMATION: In accordance with our revised procedures, as codified at 20 CFR 423.1 and published in the Rules and Regulations section, summonses and complaints in cases involving judicial review of Agency final decisions on individual claims for benefits under titles II, VIII, and/or XVI of the Social Security Act should be mailed directly to the office in SSA's Office of the General Counsel that is responsible for the processing and handling of litigation in the particular jurisdiction in which the complaint has been filed. The jurisdictional responsibilities and the names and addresses of these offices are as follows:

Jurisdictional Responsibilities of OGC Offices

Alabama

U.S. District Court—Middle District of Alabama: Office of the Regional Chief Counsel, Kansas City (Region VII).

U.S. District Court—Northern District of Alabama: Office of the Regional Chief Counsel, Atlanta (Region IV).

U.S. District Court—Southern District of Alabama: Office of the Regional Chief Counsel, Denver (Region VIII).

Alaska

U.S. District Court—Alaska: Office of the Regional Chief Counsel, Seattle (Region X).

Arizona

U.S. District Court—Arizona: Office of the Regional Chief Counsel, San Francisco (Region IX).

Arkansas

U.S. District Court—Eastern District of Arkansas: Office of the Regional Chief Counsel, Dallas (Region VI).

U.S. District Court—Western District of Arkansas: Office of the Regional Chief Counsel, Dallas (Region VI).

California

U.S. District Court—Central District of California: Office of the Regional Chief Counsel, San Francisco (Region IX).

U.S. District Court—Eastern District of California: Office of the Regional Chief Counsel, San Francisco (Region IX).

U.S. District Court—Northern District of California: Office of the Regional Chief Counsel, San Francisco (Region IX).

U.S. District Court—Southern District of California: Office of the Regional Chief Counsel, San Francisco (Region IX).

Colorado

U.S. District Court—Colorado: Office of the Regional Chief Counsel, Denver (Region VIII).

Connecticut

U.S. District Court—Connecticut: Office of the Regional Chief Counsel, Boston (Region I).

Delaware

U.S. District Court—Delaware: Office of the Regional Chief Counsel, Philadelphia (Region III).

District of Columbia

U.S. District Court—District of Columbia: Office of Program Law, Baltimore.

Florida

U.S. District Court—Middle District of Florida: Office of the Regional Chief Counsel, Atlanta (Region IV).

U.S. District Court—Northern District of Florida: Office of the Regional Chief Counsel, Kansas City (Region VII).

U.S. District Court—Southern District of Florida: Office of the Regional Chief Counsel, Kansas City (Region VII).

Georgia

U.S. District Court—Middle District of Georgia: Office of the Regional Chief Counsel, Atlanta (Region IV).

U.S. District Court—Northern District of Georgia: Office of the Regional Chief Counsel, Atlanta (Region IV).

U.S. District Court—Southern District of Georgia: Office of the Regional Chief Counsel, Boston (Region I).

Guam

U.S. District Court—Guam: Office of the Regional Chief Counsel, San Francisco (Region IX).

Hawaii

U.S. District Court—Hawaii: Office of the Regional Chief Counsel, San Francisco (Region IX).

Idaho

U.S. District Court—Idaho: Office of the Regional Chief Counsel, Seattle (Region X).

Illinois

U.S. District Court—Central District of Illinois: Office of the Regional Chief Counsel, Chicago (Region V).

U.S. District Court—Northern District of Illinois: Office of the Regional Chief Counsel, Chicago (Region V).

U.S. District Court—Southern District of Illinois: Office of the Regional Chief Counsel, Chicago (Region V).

Indiana

U.S. District Court—Northern District of Indiana: Office of the Regional Chief Counsel, Chicago (Region V).

U.S. District Court—Southern District of Indiana: Office of the Regional Chief Counsel, Chicago (Region V).

Iowa

U.S. District Court—Northern District of Iowa: Office of the Regional Chief Counsel, Kansas City (Region VII).

U.S. District Court—Southern District of Iowa: Office of the Regional Chief Counsel, Kansas City (Region VII).

Kansas

U.S. District Court—Kansas: Office of the Regional Chief Counsel, Kansas City (Region VII).

Kentucky

U.S. District Court—Eastern District of Kentucky: Office of the Regional Chief Counsel, Atlanta (Region IV).

U.S. District Court—Western District of Kentucky: Office of the Regional Chief Counsel, Atlanta (Region IV).

Louisiana

U.S. District Court—Eastern District of Louisiana: Office of the Regional Chief Counsel, Dallas (Region VI).

U.S. District Court—Middle District of Louisiana: Office of the Regional Chief Counsel, Dallas (Region VI).

U.S. District Court—Western District of Louisiana: Office of the Regional Chief Counsel, Dallas (Region VI).

Maine

U.S. District Court—Maine: Office of the Regional Chief Counsel, Boston (Region I).

Maryland

U.S. District Court—Maryland: Office of Program Law, Baltimore.

Massachusetts

U.S. District Court—Massachusetts: Office of the Regional Chief Counsel, Boston (Region I).

Michigan

U.S. District Court—Eastern District of Michigan: Office of the Regional Chief Counsel, Chicago (Region V).

U.S. District Court—Western District of Michigan: Office of the Regional Chief Counsel, Chicago (Region V).

Minnesota

U.S. District Court—Minnesota: Office of the Regional Chief Counsel, Chicago (Region V).

Mississippi

U.S. District Court—Northern District of Mississippi: Office of the Regional Chief Counsel, Kansas City (Region VII).

U.S. District Court—Southern District of Mississippi: Office of the Regional Chief Counsel, Boston (Region I).

Missouri

U.S. District Court—Eastern District of Missouri: Office of the Regional Chief Counsel, Kansas City (Region VII).

U.S. District Court—Western District of Missouri: Office of the Regional Chief Counsel, Kansas City (Region VII).

Montana

U.S. District Court—Montana: Office of the Regional Chief Counsel, Denver (Region VIII).

Nebraska

U.S. District Court—Nebraska: Office of the Regional Chief Counsel, Kansas City (Region VII).

Nevada

U.S. District Court—Nevada: Office of the Regional Chief Counsel, San Francisco (Region IX).

New Hampshire

U.S. District Court—New Hampshire: Office of the Regional Chief Counsel, Boston (Region I).

New Jersey

U.S. District Court—New Jersey: Office of the Regional Chief Counsel, New York (Region II).

New Mexico

U.S. District Court—New Mexico: Office of the Regional Chief Counsel, Dallas (Region VI).

New York

U.S. District Court—Eastern District of New York: Office of the Regional Chief Counsel, New York (Region II).

U.S. District Court—Northern District of New York: Office of the Regional Chief Counsel, New York (Region II).

U.S. District Court—Southern District of New York: Office of the Regional Chief Counsel, New York (Region II).

U.S. District Court—Western District of New York: Office of the Regional Chief Counsel, New York (Region II).

North Carolina

U.S. District Court—Eastern District of North Carolina: Office of Program Law, Baltimore.

U.S. District Court—Middle District of North Carolina: Office of the Regional Chief Counsel, Boston (Region I).

U.S. District Court—Western District of North Carolina: Office of the Regional Chief Counsel, Boston (Region I).

North Dakota

U.S. District Court—North Dakota: Office of the Regional Chief Counsel, Denver (Region VIII).

Northern Mariana Islands

U.S. District Court—Northern Mariana Islands: Office of the Regional Chief Counsel, San Francisco (Region IX).

Ohio

U.S. District Court—Northern District of Ohio: Office of the Regional Chief Counsel, Chicago (Region V).

U.S. District Court—Southern District of Ohio: Office of the Regional Chief Counsel, Chicago (Region V).

Oklahoma

U.S. District Court—Eastern District of Oklahoma: Office of the Regional Chief Counsel, Dallas (Region VI).

U.S. District Court—Northern District of Oklahoma: Office of the Regional Chief Counsel, Dallas (Region VI).

U.S. District Court—Western District of Oklahoma: Office of the Regional Chief Counsel, Dallas (Region VI).

Oregon

U.S. District Court—Oregon: Office of the Regional Chief Counsel, Seattle (Region X).

Pennsylvania

U.S. District Court—Eastern District of Pennsylvania: Office of the Regional Chief Counsel, Philadelphia (Region III).

U.S. District Court—Middle District of Pennsylvania: Office of the Regional Chief Counsel, Philadelphia (Region III).

U.S. District Court—Western District of Pennsylvania: Office of the Regional Chief Counsel, Philadelphia (Region III).

Puerto Rico

U.S. District Court—Puerto Rico: Office of the Regional Chief Counsel, Boston (Region I).

Rhode Island

U.S. District Court—Rhode Island: Office of the Regional Chief Counsel, Boston (Region I).

South Carolina

U.S. District Court—South Carolina: Office of the Regional Chief Counsel, Denver (Region VIII).

South Dakota

U.S. District Court—South Dakota: Office of the Regional Chief Counsel, Denver (Region VIII).

Tennessee

U.S. District Court—Eastern District of Tennessee: Office of the Regional Chief Counsel, Chicago (Region V).

U.S. District Court—Middle District of Tennessee: Office of Program Law, Baltimore.

U.S. District Court—Western District of Tennessee: Office of the Regional Chief Counsel, Kansas City (Region VII).

Texas

U.S. District Court—Eastern District of Texas: Office of the Regional Chief Counsel, Dallas (Region VI).

U.S. District Court—Northern District of Texas: Office of the Regional Chief Counsel, Dallas (Region VI).

U.S. District Court—Southern District of Texas: Office of the Regional Chief Counsel, Dallas (Region VI).

U.S. District Court—Western District of Texas: Office of the Regional Chief Counsel, Dallas (Region VI).

Utah

U.S. District Court—Utah: Office of the Regional Chief Counsel, Denver (Region VIII).

Vermont

U.S. District Court—Vermont: Office of the Regional Chief Counsel, Boston (Region I).

Virgin Islands

U.S. District Court—Virgin Islands: Office of the Regional Chief Counsel, New York (Region II).

Virginia

U.S. District Court—Eastern District of Virginia: Office of Program Law, Baltimore.

U.S. District Court—Western District of Virginia: Office of the Regional Chief Counsel, Philadelphia (Region III).

Washington

U.S. District Court—Eastern District of Washington: Office of the Regional Chief Counsel, Seattle (Region X).

U.S. District Court—Western District of Washington: Office of the Regional Chief Counsel, Seattle (Region X).

West Virginia

U.S. District Court—Northern District of West Virginia: Office of the Regional Chief Counsel, Philadelphia (Region III).

U.S. District Court—Southern District of West Virginia: Office of the Regional Chief Counsel, Philadelphia (Region III).

Wisconsin

U.S. District Court—Eastern District of Wisconsin: Office of the Regional Chief Counsel, Chicago (Region V).

U.S. District Court—Western District of Wisconsin: Office of the Regional Chief Counsel, Chicago (Region V).

Wyoming

U.S. District Court—Wyoming: Office of the Regional Chief Counsel, Denver (Region VIII).

Addresses of OGC Offices

Office of Program Law

Office of the General Counsel

Social Security Administration

6401 Security Boulevard

Room 617 Altmeyer Building

Baltimore, MD 21235-6401.

Office of the Regional Chief Counsel, Region I

Social Security Administration

Room 625, JFK Federal Building

Boston, MA 02203-0002.

Office of the Regional Chief Counsel, Region II

Social Security Administration

26 Federal Plaza, Room 3904

New York, NY 10278-0004.

Office of the Regional Chief Counsel, Region III

Social Security Administration

P.O. Box 41777

Philadelphia, PA 19101-1777.

Office of the Regional Chief Counsel, Region IV

Social Security Administration

Atlanta Federal Center

61 Forsyth Street, SW., Suite 20T45

Atlanta, GA 30303-8920.

Office of the Regional Chief Counsel, Region V

Social Security Administration

200 W. Adams Street, 30th Floor

Chicago, IL 60606-5208.

Office of the Regional Chief Counsel, Region VI

Social Security Administration

1301 Young Street, Room 430

Dallas, TX 75202-5433.

Office of the Regional Chief Counsel, Region VII

Social Security Administration

601 East 12th Street, Room 535

Federal Office Building

Kansas City, MO 64106-2898.

Office of the Regional Chief Counsel, Region VIII

Social Security Administration

1961 Stout Street

Byron G. Rogers Federal Office Building, Suite 1001-A

Denver, CO 80294-3538.

Office of the Regional Chief Counsel, Region IX

Social Security Administration

333 Market Street, Suite 1500,

San Francisco, CA 94105-2102.

Office of the Regional Chief Counsel, Region X

Social Security Administration

701 Fifth Avenue, Suite 2900 M/S 901

Seattle, WA 98104-7075.

Dated: December 5, 2005.
Jo Anne B. Barnhart,
Commissioner of Social Security.

[FR Doc. 05-23837 Filed 12-8-05; 8:45 am]

BILLING CODE 4191-02-P